ENVIRONMENTAL PROTECTION AGENCY

[FRL-7045-3]

Availability of FY 00 Grant Performance Reports for States of Alabama, Florida, Mississippi, North Carolina, and South Carolina, and Local Agencies Within Those States

AGENCY: Environmental Protection Agency (EPA).

ACTION: Notice of availability of grantee performance evaluation reports.

SUMMARY: EPA's grant regulations (40 CFR 35.150) require the Agency to evaluate the performance of agencies which receive grants. EPA's regulations for regional consistency (40 CFR 56.7) require that the Agency notify the public of the availability of the reports of such evaluations. EPA recently performed end-of-year evaluations of five state air pollution control programs [Alabama Department of Environmental Management, Florida Department of Environmental Protection, Mississippi Department of Environmental Quality, North Carolina Department of Environment and Natural Resources, and South Carolina Department of Health and Environmental Control] and 16 local programs [City of Huntsville Department of Natural Resources, AL; Jefferson County Department of Health, AL; Broward County Environmental Quality Control Board, FL; Jacksonville Air Quality Division, FL; Hillsborough County Environmental Protection Commission, FL; Dade County Environmental Resources Management, FL; Palm Beach County Public Health Unit, FL; Pinellas County Department of Environmental Management, FL; Jefferson County Air Pollution Control District, KY; Forsyth County Environmental Affairs Department, NC; Mecklenburg County Department of Environmental Protection, NC; Western North Carolina Regional Air Pollution Control Agency, NC; Memphis-Shelby County Health Department, TN; Chattanooga-Hamilton County Air Pollution Control Bureau, TN; Knox County Department of Air Pollution Control, TN; Nashville-Davidson County Metropolitan Health Department, TN]. The 21 evaluations were conducted to assess the agencies' performance under the grants awarded by EPA under authority of section 105 of the Clean Air Act. EPA Region 4 has prepared reports for each agency identified above and these reports are now available for public inspection. The evaluations for the Commonwealth of Kentucky, and the States of Georgia and Tennessee will be available for public review at a later date.

ADDRESSES: The reports may be examined at the EPA's Region 4 office, 61 Forsyth Street, SW, Atlanta, Georgia 30303, in the Air, Pesticides, and Toxics Management Division.

FOR FURTHER INFORMATION CONTACT: Gloria Knight, (404) 562-9064, for information concerning the state agencies in Mississippi, North Carolina and Tennessee, and the local agencies in those states; or Marie Persinger (404) 562-9048, for information concerning state agencies in Alabama, Kentucky or Georgia, and the local agencies in those states; or Vera Bowers, (404) 562-9053, for information concerning the state agencies in Florida and South Carolina, and the local agencies in those states. They may be contacted at the above Region 4 address.

Dated: August 17, 2001.
A. Stanley Meiburg,
Acting Regional Administrator, Region 4.

[FR Doc. 01-21814 Filed 8-28-01; 8:45 am]

BILLING CODE 6560-50-P